DEPARTMENT OF COMMERCE

National Oceanic and Atmospheric Administration

RIN 0648-XK45

Endangered and Threatened Species; Recovery Plans

AGENCY: National Marine Fisheries Service (NMFS), National Oceanic and Atmospheric Administration, Commerce.

ACTION: Notice of Availability; request for comments.

SUMMARY: The National Marine Fisheries Service (NMFS) announces the availability of the Proposed Middle Columbia River Steelhead Recovery Plan (Plan) for public review and comment. The Plan addresses the Middle Columbia River Steelhead (Oncorhynchus mykiss) Distinct Population Segment (DPS), which spawns and rears in tributaries to the Columbia River in central and eastern Washington and Oregon. NMFS is soliciting review and comment from the public and all interested parties on the Proposed Plan.

DATES: NMFS will consider and address all substantive comments received during the comment period. Comments must be received no later than 5 p.m. Pacific daylight time on December 23, 2008.

ADDRESSES: Please send written comments and materials to Lynn Hatcher, National Marine Fisheries Service, 304 S. Water Street, Suite # 201, Ellensburg, WA 98926. Comments may also be submitted by e mail to: MiddleColumbiaPlan.nwr@noaa.gov. Include in the subject line of the e mail comment the following identifier: Comments on Middle Columbia Steelhead Recovery Plan. Comments may be submitted via facsimile (fax) to 503-872-2737.

Persons wishing to review the Plan can obtain an electronic copy (i.e., CD ROM) from Sharon Houghton by calling 503-230-5418 or by emailing a request to sharon.houghton@noaa.gov with the subject line “CD ROM Request for Middle Columbia River Steelhead Plan.” Electronic copies of the Plan are also available on line on the NMFS website, www.nwr.noaa.gov/Salmon Recovery Planning/ESA Recovery Plans/Draft Plans.cfm

FOR FURTHER INFORMATION CONTACT: Lynn Hatcher, NMFS Middle Columbia Steelhead Salmon Recovery Coordinator, at 509-962-8911, or Elizabeth Gaar, NMFS Salmon Recovery Division, at 503 230 5434.

SUPPLEMENTARY INFORMATION:

Background

Recovery plans describe actions beneficial to the conservation and recovery of species listed under the Endangered Species Act of 1973 (ESA), as amended (16 U.S.C. 1531 et seq.). The ESA requires that recovery plans incorporate: (1) objective, measurable criteria which, when met, would result in a determination that the species is no longer threatened or endangered; (2) site-specific management actions necessary to achieve the plan's goals; and (3) estimates of the time required and costs to implement recovery actions. The ESA requires the development of recovery plans for each listed species unless such a plan would not promote its recovery.

NMFS is responsible for developing and implementing ESA recovery plans for listed salmon and steelhead. In so doing, NMFS' goal is to restore endangered and threatened Pacific salmonids to the point that they are again self-sustaining members of their ecosystems and no longer need the protections of the ESA. Local support of recovery plans by those whose activities directly affect the listed species, and whose actions will be most affected by recovery efforts, is essential. NMFS therefore supports and participates in locally led collaborative efforts to develop recovery plans that involve local communities, state, tribal, and Federal entities, and other stakeholders.

NMFS recognizes that to achieve recovery of ESA-listed salmon and steelhead in the Columbia River Basin, site-specific actions addressing all limiting factors and threats (habitat, hydropower, hatcheries, harvest, and ecological interactions including predation and competition) are necessary. This recovery plan identifies and evaluates the relative impacts of this full range of limiting factors and threats and recognizes that some sectors have the potential to make more immediate and significant contributions to recovery than do others. This plan contains recovery actions addressing all identified limiting factors and threats. At this time, however, site-specific management actions are more fully developed for tributary habitat and mainstem hydropower than for hatcheries and harvest.

The relative contribution of limiting factors and threats that impede recovery may differ among species. This recovery plan contains actions that address all threat categories and estimates their contribution to recovery. Given that habitat restoration actions generally take extended time frames to yield ecosystem responses and improvements in fish populations, it is important to implement actions with more immediate benefits, as well as habitat actions whose benefits will accrue in the future.

In summary, although site-specific actions in this plan may appear to be more fully developed for tributary habitat and mainstem hydropower, recovery will also be dependent on hatchery and harvest actions developed in other management processes. For example, mainstem fisheries in the Columbia River will be implemented consistent with the recently completed U.S v. Oregon Agreement, which extends through 2017. In other areas, management requirements for hatchery and harvest actions will be developed through Hatchery and Genetics Management Plan and Fishery Management and Evaluation Plan processes, many of which are now under review or scheduled for completion in the near future. Such plans have been and will be developed to be consistent with recovery plans, section 7(a)(2), and other ESA requirements. NMFS will continue to monitor these plans, using adaptive management, to assess implementation progress and consistency with recovery plans.

The Plan

This Plan is the product of a collaborative process initiated by NMFS with assistance from the Middle Columbia Recovery Forum, a bi-state group convened by NMFS to provide input on the development of the DPS recovery plan. Participants include representatives of the Oregon Department of Fish and Wildlife (ODFW), Washington Department of Fish and Wildlife (WDFW), the Yakama Nation, Confederated Tribes of the Warm Springs Indian Reservation, Confederated Tribes of the Umatilla Indian Reservation, Washington Governor's Salmon Recovery Office, Oregon Governor's Natural Resources Office, Snake River Salmon Recovery Board, Yakima Basin Fish and Wildlife Recovery Board, U.S. Bureau of Reclamation (BOR), U.S. Fish and Wildlife Service (USFWS), U.S. Forest Service (USFS), U.S. Army Corps of Engineers (COE), U.S. Bureau of Land Management (BLM), Klickitat County, and NMFS Northwest Region. The goal was to produce a plan that meets ESA requirements for recovery plans as well as the State of Washington's recovery planning outline and guidance (www.governor.wa.gov/gsro/) and the State of Oregon's Native Fish Conservation Policy guidance (http://ftp.dfw.state.or.us/fish/nfcp/nfcp.pdf).

Recovery Domains and Technical Recovery Teams

For the purpose of recovery planning for the 18 ESA-listed species of Pacific salmon and steelhead in the Pacific Northwest, NMFS Northwest Region designated five geographically based “recovery domains.” The Middle Columbia steelhead DPS spawning range is in the Interior Columbia domain. For each domain, NMFS appointed a team of scientists, nominated for their geographic and species expertise, to provide a solid scientific foundation for recovery plans. The Interior Columbia Technical Recovery Team (ICTRT) includes biologists from NMFS, states, and academic institutions.

All the TRTs used the same biological principles for developing their recommendations for ESU/DPS and population viability criteria. These principles are described in a NMFS technical memorandum, Viable Salmonid Populations and the Recovery of Evolutionarily Significant Units (McElhany et al., 2000). Viable salmonid populations (VSP) are defined in terms of four parameters: abundance, productivity or growth rate, spatial structure, and diversity. A viable ESU/DPS is naturally self-sustaining, with a high probability of persistence over a 100-year time period.

Management Units

In each domain, NMFS worked with state, tribal, local, and other Federal entities to develop planning forums that build to the extent possible on ongoing, locally led recovery efforts. NMFS defined “management units” based on jurisdictional boundaries as well as areas where local planning efforts were underway. The Middle Columbia management units are the following: (1) Oregon; (2) Washington Gorge, which, in turn, is subdivided into three planning areas (White Salmon, Klickitat, and Rock Creek); (3) Yakima subbasin; and (4) Southeast Washington. A recovery plan was developed for each management unit; for the Washington Gorge management unit, however, there are three plans, one for each planning area.

The management unit plans, Appendices A-F, are the work of local groups and county, state, Federal, and tribal entities within the Middle Columbia River region. The management unit plans are as follows:

(1) Oregon. Conservation and Recovery Plan for Oregon Steelhead Populations in the Middle Columbia River Steelhead Distinct Population Segment (Appendix A).

(2) Washington Gorge: Recovery Plan for the Klickitat Population of the Middle Columbia River Steelhead (Appendix B); Recovery Plan for the Rock Creek Population of the Middle Columbia River Steelhead (Appendix C); Recovery Plan for the White Salmon Population of the Middle Columbia River Steelhead (Appendix D).

(3) Yakima Basin. Yakima Steelhead Recovery Plan (Appendix E).

(4) Southeast Washington. The Snake River Salmon Recovery Plan for Southeast Washington (Appendix F).

The proposed Plan, including the management unit plans, is now available for public review and comment. Two ICTRT reports (McClure et al., 2003; ICTRT, 2007), which provide the scientific basis for the Plan, are also available for public review and comment. With approval of the final Plan, NMFS will commit itself to implement the actions in the Plan for which it has authority and funding, to work cooperatively on implementation of other actions, and to encourage other Federal agencies and tribal governments to implement Plan actions for which they have responsibility and authority.

NMFS expects the Plan to guide NMFS and other Federal agencies in evaluating Federal actions under ESA section 7 and other ESA decisions. For example, the Plan will provide greater biological context for evaluating the effects that a proposed action may have on a species. This context will be enhanced by using recovery plan information in section 7 consultations as well as ESA section 10 habitat conservation plans and other ESA decisions. Such information includes viability criteria for the DPS, better understanding of and information on limiting factors and threats facing the DPS, better information on priority areas for addressing specific limiting factors, and better geographic context for where the DPS can tolerate varying levels of risk.

At the time of a delisting decision for the Middle Columbia steelhead, NMFS will examine whether the section 4(a)(1) listing factors have been addressed. To assist in this examination, NMFS will use the listing factors (or threats) criteria described in Section 3.3 of the Plan, in addition to evaluation of biological recovery criteria and other relevant data and policy considerations. The threats should be addressed to the point that delisting is not likely to result in their re-emergence. It is possible that currently perceived threats will become insignificant in the future because of changes in the natural environment or changes in the way threats affect the entire life cycle of salmon. Consequently, NMFS expects that the relative priority of threats will change over time and that new threats may be identified. During the status reviews, NMFS will evaluate and review the listing factor criteria as they apply at that time. NMFS expects that if the proposed actions described in the Plan are implemented, they will make substantial progress toward meeting the listing factor (threats) criteria for the Middle Columbia steelhead.

DPS Addressed and Planning Area

“Steelhead” is the name commonly applied to the anadromous (migratory) form of the biological species Oncorhynchus mykiss. The common name of the non-anadromous, or resident, form is rainbow trout. When NMFS originally listed the Middle Columbia River steelhead as threatened on March 25, 1999 (64 FR 14517), it was classified as an “evolutionarily significant unit” (ESU) of salmonids that included both the anadromous and resident forms. Recently, NMFS revised its species determinations for West Coast steelhead under the ESA, delineating anadromous, steelhead-only “distinct population segments” (DPS). NMFS listed the Middle Columbia River steelhead DPS as threatened on January 5, 2006 (71 FR 834). Rainbow trout are under the jurisdiction of the U.S. Fish and Wildlife Service (USFWS). This recovery plan addresses steelhead and not rainbow trout, consistent with the 2006 ESA listing decision.

Middle Columbia River steelhead spawn and rear in tributaries to the Columbia River in the Columbia plateau of central and eastern Washington and Oregon. The DPS includes all naturally spawned populations of steelhead in streams from above (exclusive of) the Wind River, Washington, and the Hood River, Oregon, upstream to, and including, the Yakima River, Washington, excluding steelhead from the Snake River Basin (64 FR 14517; 71 FR 849). Most of these populations are summer run; however, the Middle Columbia River steelhead DPS also includes populations of inland winter steelhead in the Klickitat River, White Salmon River, Fifteenmile Creek, and possibly Rock Creek.

Four artificial propagation programs are considered part of the DPS: the Touchet River Endemic Summer Steelhead Program, the Yakima River Kelt Reconditioning Program, and the Umatilla River and Deschutes River steelhead hatchery programs.

The ICTRT (McClure et al., 2003) identified 20 historical populations of Middle Columbia steelhead based on genetic information, geography, life history traits, morphological traits, and population dynamics. Seventeen of these populations are extant, and three extirpated (White Salmon River, Crooked River, and Willow Creek). Reintroduction of native steelhead or natural recolonization is planned for blocked areas of the Upper Deschutes and Crooked Rivers and the White Salmon River, respectively.

The ICTRT stratified the Middle Columbia River steelhead populations into major population groups (MPGs) based on ecoregion characteristics, life history types, and other geographic and genetic considerations. It identified four MPGs: Cascades Eastern Slope Tributaries, Yakima River, John Day River, and Umatilla/Walla Walla.

The Plan's Recovery Goals and Recovery Criteria

To meet the ESA requirement for objective, measurable criteria for delisting, the Plan provides biological recovery criteria based on the ICTRT viability criteria for Middle Columbia steelhead, as well as “threats” criteria based on the listing factors defined in ESA section 4(a)(1).

Biological Viability Criteria

Biological viability criteria describe DPS characteristics associated with a low risk of extinction for the foreseeable future. These criteria are expressed in terms of the VSP parameters of abundance, productivity, spatial structure, and diversity (McElhany et al., 2000; ICTRT, 2007a). The ICTRT calculated varying levels of risk of extinction and related the risk levels to their criteria. The Plan shows the minimum abundance and productivity thresholds required for the Middle Columbia steelhead populations to have a 95 percent probability of persistence for the next 100 years.

Since MPGs are geographically and genetically cohesive groups of populations, they are critical components of ESU or DPS spatial structure and diversity. NMFS' criterion for long-term DPS viability, based on the ICTRT recommendations, is that all extant MPGs and any extirpated MPGs critical for proper functioning of the ESU/DPS should be at low risk (ICTRT, 2007a). MPG viability depends on the abundance, productivity, spatial structure, and diversity associated with its component populations.

The risk levels of the populations within the DPS collectively determine MPG viability and, in turn, the likely persistence of the DPS. The ICTRT recommended that all MPGs in a DPS should be viable; however, it may not be necessary for all of the populations to attain the lowest risk level. There may be more than one way for a DPS to meet the viability criteria. Combinations of viability status for individual populations that will meet the ICTRT criteria for overall DPS viability are called recovery scenarios. The ICTRT cautioned against closing off the options for any population prematurely, however, because of the many uncertainties in predicting the biological response to recovery actions (ICTRT, 2007a).

Threats Criteria

Listing factors (or threats) are those features that are evaluated under section 4(a)(1) when initial determinations are made whether to list species for protection under the ESA. They are as follows:

A. Present or threatened destruction, modification, or curtailment of [the species'] habitat or range;

B. Over-utilization for commercial, recreational, scientific, or educational purposes;

C. Disease or predation;

D. Inadequacy of existing regulatory mechanisms; or

E. Other natural or human-made factors affecting [the species'] continued existence.

At the time of a delisting decision for Middle Columbia steelhead, NMFS will examine whether the section 4(a)(1) listing factors have been addressed. To assist in this examination, NMFS will use the listing factors (or threats) criteria described in the Plan, in addition to evaluation of biological recovery criteria and other relevant data and policy considerations. The threats need to have been addressed to the point that delisting is not likely to result in their re-emergence. It is possible that currently perceived threats will become insignificant in the future due to changes in the natural environment or changes in the way threats affect the entire life cycle of salmon. Consequently, NMFS expects that the relative priority of threats will change over time and that new threats may be identified. During the status reviews, NMFS will evaluate and review the listing factor criteria as they apply at that time.

Current DPS Status

According to the ICTRT viability criteria, the majority of natural Middle Columbia steelhead populations are rated at moderate risk for abundance and productivity, but low to moderate risk for spatial structure and diversity. Currently, one population is “highly viable” (North Fork John Day) and two populations are viable (Deschutes Eastside and Fifteenmile); eleven are at moderate risk, with good prospects for improving. However, the three populations at high risk (Deschutes Westside, Naches, and Upper Yakima), are important to DPS viability. As a minimum, for the Cascades Eastern Slope Tributaries and the Yakima River MPG to meet viability criteria, the Deschutes Westside population and one of the two large Yakima populations should reach viable status, with the other large Yakima population at no more than moderate risk.

None of the MPGs meets the low risk criteria. Thus, the Middle Columbia steelhead DPS does not currently meet viability criteria based on the determination that the four component MPGs are not at low risk.

Limiting Factors and Threats

Based on information from the ICTRT, the four management unit plans, and the Estuary and Hydro modules, the major factors limiting the viability of Middle Columbia steelhead populations are degraded tributary habitat, impaired mainstem and tributary fish passage, hatchery-related effects, and predation/competition/disease. The management unit plans contain detailed descriptions of tributary habitat limiting factors and threats, while the modules provide detailed examination of conditions in mainstem Columbia River and estuary.

Recovery Strategy

The recovery strategy for the Middle Columbia steelhead DPS is made up of the following elements:

• Address the limiting factors for each major population group and population, following the recommendations in the 2006 listing decision, making use of the strategies and actions developed in the management unit plans, in concert with the strategies and actions provided in the NMFS 2008 FCRPS Biological Opinion, NMFS Estuary Module, Hatchery and Genetic Management Plans (HGMPs) and Artificial Production for Pacific Salmon (Appendix C of Supplemental Comprehensive Analysis, NMFS 2008), and fishery management planning through U.S. v. Oregon for mainstem fisheries and Fisheries Management Evaluation Plans for tributary fisheries.

• Address and coordinate DPS-wide and basin-wide issues through the Middle Columbia Forum (a bi-state, tri-tribe group convened by NMFS to provide input on the development of the DPS recovery plan).

• Coordinate research, monitoring, and evaluation throughout the range of the DPS.

• Conduct periodic comprehensive reviews of new information generated through the research, monitoring, and evaluation program. Adapt management actions as appropriate to achieve the recovery goals.

If, as we believe, the decline of the Middle Columbia River steelhead DPS is caused by widespread tributary habitat degradation, impaired mainstem and tributary passage, hatchery effects, and predation/ competition/ disease, then actions taken to improve, change, mitigate, reduce those factors will result in increased survival and improvements in abundance, survival, spatial structure, and diversity. Regional coordination, research, monitoring, evaluation, and adaptive management are essential. The results of these actions must be monitored, evaluated, and communicated to managers to enable them to make informed decisions to continue or change their strategy.

Following are summaries of the recovery strategies for each MPG. In the next section, recovery strategies are summarized for DPS-level conditions affecting all MPGs (mainstem passage, hatchery effects, predation in mainstem and estuary).

Cascades Eastern Slope Tributaries MPG

Status

Viable - Fifteenmile Creek and Deschutes Eastside

Moderate risk - Klickitat (a provisional rating, based on insufficient abundance and productivity data and an unknown degree of diversity risk from hatchery influence)

High risk- Rock Creek (provisional, because of lack of data); and Deschutes Westside

Functionally extirpated - White Salmon

Extirpated - Crooked River

Primary Limiting Factors and Threats

• Degraded tributary habitat

• Mainstem passage

• Hatchery-related effects - evidence of hatchery fish from non-native broodstock straying and spawning in the Deschutes Basin

• Blocked migration to historically accessible habitat

• Predation, competition, disease - in mainstem and estuary; possibly also in Deschutes Westside as competition with resident rainbow trout.

Recovery Scenario

For the Eastern Cascades Slope Tributaries MPG to meet viability criteria based on the currently extant populations, the Klickitat, Fifteenmile, and both the Deschutes Eastside and Westside populations should reach viable status, with one highly viable. The Rock Creek population should reach “maintained” status (25 percent or less risk level). MPG viability could be further bolstered if reintroduction of steelhead into the Upper Deschutes and Crooked Rivers succeeds and if the White Salmon population is successfully reintroduced to its historical habitat.

Key Actions Proposed

• Protect, improve, and increase freshwater habitat for steelhead production. Improvements to freshwater habitat should be targeted to address specific limiting factors in specific areas as described in the Oregon Recovery Plan and the Washington Gorge plans.

• Improve survival in mainstem and estuary through actions detailed in NMFS Estuary Module (NMFS 2007) and FCRPS Biological Opinion (NMFS 2008).

Reduce straying of out-of-DPS hatchery fish onto natural spawning grounds within the Deschutes subbasin.

• Restore historical passage to Deschutes Westside tributaries to the Deschutes and Crooked Rivers above Pelton Round Butte dam complex and the White Salmon River above Condit Dam.

• Improve hatchery management to minimize impacts from hatchery releases on naturally produced steelhead within the Deschutes West and East and Klickitat subbbasins.

• Coordinate between scientists, planners, and implementers of recovery actions on both sides of the river for sequencing of recovery actions and monitoring for adaptive management.

• Fill data gaps for better assessment of Klickitat and Rock Creek steelhead populations.

John Day River MPG

Status

Highly viable - North Fork John Day

Moderate risk - John Day Upper Mainstem, John Day Lower Mainstem, Middle Fork John Day, South Fork John Day

Main Limiting Factors and Threats

• Degraded tributary habitat

• Mainstem passage

• Hatchery-related effects

• Predation/ competition/disease in mainstem and estuary

Recovery Scenario

For the John Day River MPG to meet viability criteria, the Lower Mainstem John Day River, North Fork John Day River, and either the Middle Fork John Day River or Upper Mainstem John Day River populations should achieve viable status, with one highly viable.

Key Actions Proposed

• Protect and improve freshwater habitat conditions and connectivity for steelhead production. Improvements to freshwater habitat should be targeted to address specific factors in specific areas as described in the Oregon Recovery Plan.

• Improve survival in mainstem and estuary through actions detailed in NMFS Estuary Module (NMFS 2007) and FCRPS Biological Opinion (NMFS 2008).

• Improve hatchery management to reduce straying from out-of-DPS hatchery fish onto natural spawning grounds within the John Day subbasin.

Yakima River MPG

Status

Moderate risk - Satus Creek , Toppenish Creek.

High risk - Naches River, Upper Yakima River

Main Limiting Factors and Threats

• Tributary habitat: Influence of major irrigation system development. Altered hydrology; degraded habitat loss of habitat; impaired fish passage; reduced outmigrant survival in Yakima mainstem.

• Mainstem passage (these fish must pass four dams)

Recovery Scenario

For the Yakima River MPG to meet viability criteria, two populations should be rated as viable, including at least one of the two classified as Large the Naches River and the Upper Yakima River and the other Large population meeting at least the “maintained” or moderate risk criteria. The remaining two populations should, at a minimum, meet the maintained criteria.

Key Actions Proposed

• Protect and enhance habitat in key tributary watersheds in the Yakima Basin.

• Restore passage to blocked areas in the Naches and Upper Yakima population areas.

• Alter irrigation delivery and storage operations in the Yakima Basin (a) to improve flow conditions for Middle Columbia steelhead and use managed high flows to maintain floodplain habitat.

• Improve channel and floodplain function and reduce predation through the mainstem Yakima and Naches Rivers.

• Improve survival in the mainstem Columbia and its estuary through actions detailed in NMFS Estuary Module (NMFS 2007) and FCRPS Biological Opinion (NMFS 2008).

Umatilla/Walla Walla MPG

Status

Moderate risk - Umatilla, Walla Walla

High risk - Touchet (a provisional rating because of insufficient data)

Main Limiting Factors and Threats

• Mainstem passage (Touchet and Walla Walla populations pass four major dams: the Umatilla population must pass three)

• Tributary habitat

• Hatchery related effects

• Predation/competition/disease

Recovery Scenario

For the Umatilla/Walla Walla MPG to meet viability criteria, two populations should be viable, and one should be highly viable. The Umatilla River is the only large population, and therefore needs to be viable. Either the Walla Walla River or Touchet River population also need to be viable.

Key Actions Proposed

• Protect and improve freshwater habitat conditions and access for steelhead production. Improvements to freshwater habitat should be targeted to address specific factors in specific areas as described in the Southeast Washington Plan and the Oregon Recovery Plan.

• Improve hatchery management to reduce straying from out-of-DPS hatchery fish onto natural spawning grounds within the Umatilla/Walla Walla subbasins.

• Improve survival in mainstem and estuary through actions detailed in NMFS Estuary Module (NMFS 2007) and FCRPS Biological Opinion (NMFS 2008)

• Coordinate between planners, scientists and those implementing recovery actions in Washington and Oregon for sequencing, monitoring, and adaptive management

DPS-wide and Basin-wide Issues

DPS-wide issues include impaired fish passage on the mainstem Columbia River, hatchery-related effects, predation on steelhead in mainstem, estuary, and plume, and harvest.

Impaired Fish Passage - Mainstem Columbia River

Passage for juvenile steelhead migrating to the ocean and adult steelhead returning to their natal streams is limited primarily by the four Federal dams on the Lower Columbia River mainstem Bonneville, John Day, The Dalles, and McNary Dams which are part of the Federal Columbia River Power System (FCRPS). NMFS recently issued a new draft biological opinion on the effects of FCRPS operations on salmonids, including Middle Columbia River steelhead, and on the predicted results of current and planned improvements to the system that are intended to improve fish survival (NMFS 2008).

The plan for current mainstem hydro operations, as summarized in the Hydro Module, and any further improvements for fish survival that may result from the ongoing FCRPS collaborative process, represent the hydropower recovery strategy for all listed salmonids that migrate through the mainstem Columbia River, including the Middle Columbia steelhead populations.

These improvements are expected to increase the in-river survival of Middle Columbia River juvenile steelhead by 0.3 percent, 5.1 percent, 8.2 percent, and 10.2 percent, depending on the number of dams they must pass. The survival of steelhead adults through the four dams is thought to be relatively high at the present time (about 98.5 percent per project from Bonneville to McNary), and is expected to be maintained or improved.

Dissenting View of State of Oregon Regarding Mainstem Operations

At the time this proposed recovery plan is being finalized, August 2008, it is the position of the State of Oregon that additional or alternative actions should be taken in mainstem operations of the FCRPS for ESA-listed salmon and steelhead. Some additional or alternative actions recommended by Oregon, while considered, were not included in NOAA's FCRPS Biological Opinion. At this time, Oregon is a plaintiff in litigation against various Federal agencies, including NOAA, challenging the adequacy of the measures contained in the current FCRPS Biological Opinion. NOAA is not in agreement with Oregon regarding the need for, or efficacy of, Oregon's additional or alternative actions.

Hatchery-related Effects

The hatchery programs in the Middle Columbia River are managed under the Mitchell Act and the U.S. v. Oregon process, involving the fisheries co-managers and regulated by NMFS. NMFS is working with the funding agencies and hatchery operators to update and complete Hatchery and Genetic Management Plans (HGMPs) for every hatchery program in the Middle Columbia region as a means of organizing hatchery review and reform. The HGMPs are the basis for NMFS' biological opinions on hatchery programs under sections 7 and 10 and the 4(d) rule, which relate to incidental and direct take of listed species. The HGMPs describe each hatchery's operations and the actions taken to support recovery and minimize ecological or genetic impacts, such as straying and other forms of competition with naturally produced fish.

Artificial Propagation for Pacific Salmon

Appendix C of the 2008 FCRPS Biological Opinion (NMFS 2008), is a review of key factors for assessing the benefits and risks of hatchery programs relative to the conservation of Pacific salmon and to U.S. treaty responsibilities and sustainable fisheries mandates. The paper recommends strategies and practices to support salmon and steelhead conservation. The new FCRPS Biological Opinion (NMFS 2008) requires the hatchery operators and the Action Agencies to submit to NMFS updated HGMPs describing site-specific applications of the “best management practices” for the hatchery programs as described in Appendices C and D of the Supplemental Comprehensive Analysis (SCA) of the Biological Opinion for those mitigation hatchery programs funded by the FCRPS Action Agencies.

Evaluating the factors that influence interactions between hatchery fish and naturally produced fish under varying freshwater conditions and ocean conditions is an important area of future research.

Predation, Competition, and Disease

The Plan addresses major predation issues in the mainstem Columbia River and recommends research and monitoring to track trends in predator populations, understand their impacts on steelhead, and develop appropriate management techniques to reduce predation. Disease in salmonids is caused by multiple factors and probably cannot be directly addressed by recovery actions except in specific instances of known causal factors. It is more likely that nearly all of the recommended recovery actions that improve spawning, rearing, and passage conditions for steelhead and increase the survival, abundance, and productivity of naturally produced fish will result in decreasing incidence of disease.

Harvest

Although, in general, harvest is not considered a major threat for the Middle Columbia steelhead DPS, it is important to ensure that impacts from fisheries do not impede recovery, and to perform monitoring and evaluation to verify impacts and reduce existing uncertainties.

Site-specific Management Actions

The proposed site-specific management actions at the population level are described in detail in Appendices A through F of the Plan. Proposed site-specific actions for the mainstem Columbia River and estuary are described in detail in the FCRPS Biological Opinion (NMFS 2008), the Hydro Module (in preparation), the Estuary Module (NMFS 2007), and Artificial Propagation for Pacific Salmon, Appendix C of the Supplemental Comprehensive Analysis of the FCRPS Biological Opinion (NMFS 2008).

Time Required and Cost Estimates

There are unique challenges to estimating time and cost for salmon and steelhead recovery, given the complex relationship of these fish to the environment and to human activities on land. NMFS estimates that recovery of the Middle Columbia steelhead DPS, like recovery for most of the ESA-listed Pacific Northwest salmon and steelhead, could take 50 to 100 years, although the optimistic view is that it could be much sooner. The management unit plans (Appendices A through F) contain extensive lists of actions to recover the Middle Columbia steelhead DPS populations. These projects were developed using the most up-to-date assessment of Middle Columbia steelhead recovery needs. The management unit plans focus, for the most part, on actions within the next 5 to 15 years. There are many uncertainties involved in predicting the course of recovery and in estimating total costs. Such uncertainties include biological and ecosystem responses to recovery actions as well as long-term and future funding.

Cost estimates for recovery projects were provided by the management unit entities where available information was sufficient to do so, using the methods described in each management unit plan. All applied guidance provided by NMFS and used similar cost calculation methodologies. However, the approaches vary to some degree given the local and independent nature of the planning groups. There are differences in the timeframes for cost estimates, whether administrative costs were included or not, and whether research, monitoring, and evaluation costs were calculated.

No cost estimates are provided for (1) baseline actions (programs that are already in existence and would occur regardless of this recovery plan), which are listed as Not Applicable (N/A); or (2) actions that need costs to be developed, need unit costs, and/or need project scale estimates these are listed as To Be Determined (TBD). Each management unit will work with regional experts to identify costs, scale, or unit costs for actions that require more information during the public comment period. Individual management unit costs will be updated with this new information for the final steelhead DPS recovery plan.

The total estimated cost of restoring habitat for the Middle Columbia steelhead DPS is approximately $235 million over the initial 5-year period, and approximately $970 million over 20 to 50 years for all DPS-wide recovery actions for which sufficient information exists upon which to base an estimate. This estimate includes expenditures by local, tribal, state, and Federal governments, private business, and individuals in implementing both capital projects and non-capital work. In most cases, administrative costs are embedded in the total management unit cost estimates. Preliminary research, monitoring and evaluation costs have, in some cases, been estimated at the management unit level; however, these costs are not included at this time, pending completion of research and monitoring plans and further development of each project.

Potential Effects of Proposed Recovery Actions

A quantitative analysis of the potential effects of all the proposed recovery actions on the abundance and productivity of Middle Columbia River steelhead was performed using two models, the Ecosystem Diagnosis and Treatment model and the All-H-Analyzer model. The analysis indicates, based on the suites of proposed actions in all the sectors, that all Middle Columbia River steelhead populations for which there are adequate data are expected to achieve 95 percent probability of survival (less than 5 percent risk of extinction within 100 years) for abundance/productivity if the most intensive (major) restoration scenarios are implemented and the projected habitat changes are realized. Under minimum restoration scenarios, three populations (Deschutes Westside, Satus, and Upper Yakima) may not achieve less than 5 percent risk for abundance/productivity. However, even under poor ocean conditions and minimum restoration actions, the abundance and productivity of these three populations are expected to increase considerably over the baseline.

Coordination/Governance

Coordination of actions and information-sharing among fisheries biologists, Tribes, local governments, citizen groups, and state and Federal agencies based in both Oregon and Washington is a key component of recovery for this DPS. Benefits of coordination include:

• Dealing with shared migration areas consistently

• Developing coherent MPG-level strategies where populations are in two states (Cascades Eastern Slope MPG; Umatilla/Walla Walla MPG), or the same population is in both states (Walla Walla population)

• Promoting consistent methods for setting recovery objectives, evaluating strategies, and monitoring progress across populations, MPGs, and the DPS

This coordination is under development. The recent creation of the Middle Columbia Recovery Forum, to be convened regularly by NMFS, is intended to facilitate such collaboration between scientists and recovery planners on both sides of the Columbia River. Chapter 11 of this plan describes in more detail the proposed roles and responsibilities.

Research, Monitoring, and Adaptive Management

The Plan identifies the many knowledge gaps and uncertainties involved in designing recovery actions for Middle Columbia steelhead. Because the proposed recovery actions are based on hypotheses about the relationships between fish, limiting factors, human activities, and the environment, the Plan recommends research and monitoring to determine progress in recovery. Monitoring is the basis for adaptive management the process of adjusting management actions and/or directions based on new information. Research, monitoring, and adaptive management will be built into the implementation plans for each management unit plan, after this Plan is approved.

Conclusion

NMFS concludes that the Plan meets the requirements of ESA section 4(f) and thus is proposing it as an ESA recovery plan.

Public Comments Solicited

NMFS is soliciting written comments on the Proposed Plan. All comments received by the date specified above will be considered prior to NMFS' decision whether to approve the Plan. Additionally, NMFS will provide a summary of the comments and responses through its Northwest Region web site and provide a news release for the public announcing the availability of the response to comments. NMFS seeks comments particularly in the following areas: (1) the analysis of, and hypotheses concerning, limiting factors and threats; (2) the recovery objectives, strategies, and actions; (3) the criteria for removing the DPS from the Federal list of endangered and threatened wildlife and plants; and (4) estimates of time and cost to implement recovery actions, including the intent to be even more specific by soliciting an implementation schedule.

Literature Cited

ICTRT (Interior Columbia Technical Recovery Team). 2007. Viability Criteria for Application to Interior Columbia Basin Salmonid ESUs. Review draft March 2007. Available at: www.nwfsc.noaa.gov/trt/trt_viability.cfm

ICTRT (Interior Columbia Technical Recovery Team). 2008. Current Status Reviews: Interior Columbia Basin Salmon and Steelhead ESUs. Volume III: Middle Columbia River Steelhead Distinct Population Segment (DPS). Draft, May 9, 2008.

McClure, M.M., E.E. Holmes, B.L. Sanderson, and C.E. Jordan. 2003. A large-scale, multispecies status assessment: Anadromous salmonids in the Columbia River basin. Ecological Applications 13(4):964-989.

McElhany, P., M.H. Ruckelshaus, M.J. Ford, T.C. Wainwright, and E.P. Bjorkstedt. 2000. Viable salmon populations and the recovery of evolutionarily significant units. U.S. Dept. of Commerce, NOAA Tech. Memo., NMFS NWFSC 42, 156p. Authority: 16 U.S.C. 1531 et seq.

National Marine Fisheries Service (NMFS). 2006. Draft Recovery Plan Module for Mainstem Columbia River Hydropower Projects (“Hydro Module”). NMFS Northwest Region. Portland, Oregon.

National Marine Fisheries Service (NMFS). 2007. Columbia River Estuary ESA Recovery Plan Module for Salmon and Steelhead. November 5, 2007. Available at www.nwr.noaa.gov/Salmon-Recovery-Planning/ESA-Recovery-Plans/Estuary-Module.cfm

National Marine Fisheries Service (NMFS). 2008. Endangered Species Act - Section 7 Consultation Biological Opinion and Magnuson-Stevens Fishery Conservation and Management Act Consultation: consultation on remand for operation of the Columbia River Power System and 19 Bureau of Reclamation Projects in the Columbia Basin (“FCRPS BiOp”). NMFS, Portland, Oregon.

Dated: September 10, 2008.
Therese Conant,
Acting Chief, Endangered Species Division, Office of Protected Resources, National Marine Fisheries Service.

[FR Doc. E8-21600 Filed 9-23-08; 8:45 am]

BILLING CODE 3510-22-S